DEPARTMENT OF TRANSPORTATION

Maritime Administration

[Docket No. MARAD-2019-0113]

Request for Comments of a Previously Approved Information Collection

AGENCY: Maritime Administration, DOT.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on April 29, 2019.

DATES: Comments must be submitted on or before August 8, 2019.

ADDRESSES: Send comments regarding the burden estimate, including suggestions for reducing the burden, to the Office of Management and Budget, Attention: Desk Officer for the Office of the Secretary of Transportation, 725 17th Street NW, Washington, DC 20503.

FOR FURTHER INFORMATION CONTACT: Albert Bratton, Office of Financial Approvals, Maritime Administration, U.S. Department of Transportation, 1200 New Jersey Avenue SE, Washington, DC 20590, 202-366-5769.

SUPPLEMENTARY INFORMATION:

Title: Determination of Fair and Reasonable Rates for the Carriage of Agricultural Cargoes on U.S. Commercial Vessels—46 CFR.

OMB Control Number: 2133-0514.

Type of Request: Renewal of a Previously Approved Information Collection.

Background: This collection of information requires U.S.-flag operators to submit annual vessel operating costs and capital costs data to Maritime Administration officials. The information is used by the Maritime Administration in determining fair and reasonable guideline rates for the carriage of preference cargoes on U.S.-flag vessels. In addition, U.S.-flag vessel operators are required to submit Post Voyage Reports to the Maritime Administration after completion of a cargo preference voyage.

Respondents: U.S. citizens who own and operate U.S.-flag vessels.

Affected Public: Business or other for profit.

Total Estimated Number of Responses: 68.

Frequency of Collection: Annually.

Estimated Time per Respondent: 1-4 hours.

Total Estimated Number of Annual Burden Hours: 176.

Public Comments Invited: Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

(Authority: The Paperwork Reduction Act of 1995; 44 U.S.C. Chapter 35, as amended; and 49 CFR 1.93)

Dated: July 2, 2019.
By Order of the Maritime Administrator.
T. Mitchell Hudson, Jr.,
Secretary, Maritime Administration.

[FR Doc. 2019-14503 Filed 7-8-19; 8:45 am]

BILLING CODE 4910-81-P